DEPARTMENT OF AGRICULTURE

Agricultural Marketing Service

7 CFR Parts 54 and 62

[Doc. No. AMS-LS-11-0039]

Request for Extension and Revision of a Currently Approved Information Collection

AGENCY: Agricultural Marketing Service, USDA.

ACTION: Request for comments.

SUMMARY: In accordance with the Paperwork Reduction Act of 1995 (44 U.S.C. Chapter 35), this document announces the Agricultural Marketing Service's (AMS) intention to request approval, from the Office of Management and Budget, for an extension of and revision to the currently approved information collection 7 CFR part 54 Meats, Prepared Meats, and Meat Products (Grading, Certification, and Standards) and 7 CFR part 62 Quality Systems Verification Program (QSVP).

DATES: Comments on this document must be received by July 5, 2011 to be assured of consideration.

ADDRESSES: Interested persons are invited to submit comments concerning this information collection document. Comments should be submitted online at http://www.regulations.gov or sent to James Riva, Chief, Audit, Review and Compliance Branch, Livestock and Seed Program, Agricultural Marketing Service, U.S. Department of Agriculture, 100 Riverside Parkway, Suite 101, Fredericksburg, Virginia, 22406, or by facsimile to (202) 690-1038. All comments should reference the docket number (AMS-LS-11-0039), the date, and the page number of this issue of the Federal Register. All comments received will be posted without change, including any personal information provided, online at http://www.regulations.gov and will be made available for public inspection at the above physical address during regular business hours.

FOR FURTHER INFORMATION CONTACT: James Riva at the above physical address, by telephone (540) 361-2740, or by e-mail at James.Riva@ams.usda.gov.

SUPPLEMENTARY INFORMATION:

Title: 7 CFR part 54 Meats, Prepared Meats, and Meat Products (Grading, Certification, and Standards) and 7 CFR part 62 Quality Systems Verification Program (QSVP).

OMB Number: 0581-0124.

Expiration Date of Approval: December 31, 2011.

Type of Request: Extension and revision of a currently approved information collection.

Abstract: The Agricultural Marketing Act of 1946, (7 U.S.C. 1621 et.seq.) as amended, authorizes the Secretary of Agriculture to provide consumers with voluntary Federal meat grading and certification services that facilitate the marketing of meat and meat products. This is accomplished by providing meat and meat products that are uniform in quality. The Meat Grading and Certification (MGC) Branch provides these services under the authority of 7 CFR Part 54—Meats, Prepared Meats, and Meat Products (Grading, Certification, and Standards).

Due to the voluntary nature of grading and certification services, 7 CFR part 54 contains provisions for the collection of fees from users of MGC Branch services that nearly as possible are equal to the cost of providing requested services. Applicants (individual or businesses with financial interest in the product) may request services through either submission of Form LS-313, “Application for Service,” or Form LS-315, “Application for Commitment Grading or Certification Service.”

Also, under the authority of the 1946 Act, the Audit, Review, and Compliance (ARC) Branch conducts verification audits of the production process in accordance with procedures that are contained in 7 CFR Part 62—Quality Systems Verification Program (QSVP). QSVP is a collection of voluntary, audit-based, user-fee funded programs that allow applicants to have program documentation and program processes assessed by AMS auditor(s) and other U.S. Department of Agriculture (USDA) officials. QSVP are user-fee programs based on the approved hourly rate established under 7 CFR part 62.

Applicants (individual or business with financial interest in the product) may request verification services through the submission of Form-313 “Application for Service.” In addition to the application for service, applicant would have to develop a technical proposal documenting their quality management system.

Congress did not specifically authorize this information collection, but as a user-fee service, completion and submission of Form LS-313 or Form LS-315 serve as a legal agreement and assures payment for services provided.

Estimate of Burden: Public reporting burden for this collection of information is estimated to average 7 minutes per response.

Respondents: Livestock and meat industry or other for-profit businesses.

Estimated Number of Respondents: 83 respondents.

Estimated Total Annual Responses: 11,588 responses.

Estimated Number of Responses per Respondent: 140 responses.

Estimated Total Annual Burden on Respondents: 1,423 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Dated: April 29, 2011.
David R. Shipman,
Associate Administrator, Agricultural Marketing Service.

[FR Doc. 2011-11048 Filed 5-5-11; 8:45 am]

BILLING CODE 3410-02-P